SMALL BUSINESS ADMINISTRATION

[Disaster Declaration #12242 and #12243]

Kentucky Disaster #KY-00035

AGENCY: U.S. Small Business Administration.

ACTION: Notice.

SUMMARY: This is a Notice of the Presidential declaration of a major disaster for the Commonwealth of Kentucky (FEMA-1925-DR), dated 07/23/2010.

Incident: Severe storms, flooding, and mudslides.

Incident Period: 07/17/2010 and continuing.

Effective Date: 07/23/2010.

Physical Loan Application Deadline Date: 09/21/2010.

Economic Injury (EIDL) Loan Application Deadline Date: 04/25/2011.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street, SW., Suite 6050, Washington, DC 20416

SUPPLEMENTARY INFORMATION: Notice is hereby given that as a result of the President's major disaster declaration on 07/23/2010, applications for disaster loans may be filed at the address listed above or other locally announced locations.

The following areas have been determined to be adversely affected by the disaster:

Primary Counties (Physical Damage and Economic Injury Loans): Pike

Contiguous Counties (Economic Injury Loans Only):

Kentucky: Floyd, Knott, Letcher, Martin

Virginia: Buchanan, Dickenson, Wise

West Virginia: Mingo

The Interest Rates are:

| Percent
For Physical Damage:
Homeowners with Credit Available Elsewhere | 5.000
Homeowners without Credit Available Elsewhere | 2.500
Businesses with Credit Available Elsewhere | 6.000
Businesses without Credit Available Elsewhere | 4.000
Non-Profit Organizations with Credit Available Elsewhere | 3.625
Non-Profit Organizations without Credit Available Elsewhere | 3.000
For Economic Injury:
Businesses & Small Agricultural Cooperatives without Credit Available Elsewhere | 4.000
Non-Profit Organizations without Credit Available Elsewhere | 3.000

The number assigned to this disaster for physical damage is 12242B and for economic injury is 122430.

(Catalog of Federal Domestic Assistance Numbers 59002 and 59008)

James E. Rivera,
Associate Administrator for Disaster Assistance.

[FR Doc. 2010-18808 Filed 7-30-10; 8:45 am]

BILLING CODE 8025-01-P